DEPARTMENT OF ENERGY

Federal Energy Regulatory Commission

Combined Notice of Filings #2

Take notice that the Commission received the following electric rate filings:

Docket Numbers: ER10-2319-002; ER10-2320-002; ER10-2317-001; ER10-2322-003; ER10-2324-002; ER10-2325-001; ER10-2332-002; ER10-2326-003; ER10-2327-004; ER10-2328-002; ER10-2343-003; ER10-2331-003; ER10-2330-003; ER11-4609-001.

Applicants: J.P. Morgan Ventures Energy Corporation, Triton Power Michigan LLC, BE Allegheny LLC, BE CA LLC, BE Ironwood LLC, BE KJ LLC, BE Rayle LLC, BE Alabama LLC, BE Louisiana LLC, Cedar Brakes I LLC, Central Power & Lime LLC, Cedar Brakes II LLC, J.P. Morgan Commodities Canada Corporation, Utility Contract Funding LLC.

Description: Notice of Non-Material Change in Status of J.P. Morgan Ventures Energy Corporation et al.

Filed Date: 1/12/12.

Accession Number: 20120112-5128.

Comments Due: 5 p.m. ET 2/2/12.

Docket Numbers: ER11-3876-001; ER11-2044-002; ER10-2611-001.

Applicants: Cordova Energy Company LLC, MidAmerican Energy Company, Saranac Power Partners, L.P.

Description: Revised transmittal letter to triennial update filed June 30, 2011 of Cordova Energy Company LLC, et al.

Filed Date: 7/1/11.

Accession Number: 20110701-5295.

Comments Due: 5 p.m. ET 1/19/12.

Docket Numbers: ER11-3876-001; ER11-2044-002; ER10-2611-001.

Applicants: Cordova Energy Company, LLC, MidAmerican Energy Company, Saranac Power Partners, L.P.

Description: Revised Attachment B to replace Attachment B in Applicants' June 30 market analysis of Cordova Energy Company LLC, et al.

Filed Date: 7/6/11.

Accession Number: 20110706-5086.

Comments Due: 5 p.m. ET 1/19/12.

Docket Numbers: ER12-795-000.

Applicants: High Liner Foods Incorporated.

Description: High Liner Foods Incorporated submits tariff filing per 35.12: MBR Application Filing to be effective 2/1/2012.

Filed Date: 1/12/12.

Accession Number: 20120112-5061.

Comments Due: 5 p.m. ET 2/2/12.

Docket Numbers: ER12-796-000.

Applicants: CalPeak Power—El Cajon LLC.

Description: CalPeak Power—El Cajon LLC submits tariff filing per 35.15: Cancellation of Market-Based Rate Tariff to be effective 3/12/2012.

Filed Date: 1/12/12.

Accession Number: 20120112-5081.

Comments Due: 5 p.m. ET 2/2/12.

Docket Numbers: ER12-798-000.

Applicants: Tatanka Wind Power, LLC.

Description: Tatanka Wind Power, LLC submits tariff filing per 35: Compliance Filing to be effective 1/12/2012.

Filed Date: 1/12/12.

Accession Number: 20120112-5103.

Comments Due: 5 p.m. ET 2/2/12.

Docket Numbers: ER12-799-000.

Applicants: Nevada Solar One, LLC.

Description: Nevada Solar One, LLC submits tariff filing per 35: Compliance Filing—Clone to be effective 1/12/2012.

Filed Date: 1/12/12.

Accession Number: 20120112-5107.

Comments Due: 5 p.m. ET 2/2/12.

Docket Numbers: ER12-800-000.

Applicants: ISO New England Inc.

Description: ISO New England Inc. Capacity Supply Obligation—Resource Termination—RIE Genco.

Filed Date: 1/12/12.

Accession Number: 20120112-5125.

Comments Due: 5 p.m. ET 2/2/12.

Docket Numbers: ER12-801-000.

Applicants: Southwest Power Pool, Inc.

Description: Southwest Power Pool, Inc. submits tariff filing per 35.13(a)(2)(iii): 2299 Rattlesnake Creek Wind Project GIA to be effective 12/14/2011.

Filed Date: 1/12/12.

Accession Number: 20120112-5127.

Comments Due: 5 p.m. ET 2/2/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2012.
Nathaniel J. Davis, Sr.,
Deputy Secretary.

[FR Doc. 2012-1281 Filed 1-23-12; 8:45 am]

BILLING CODE 6717-01-P